LEGAL SERVICES CORPORATION

45 CFR Part 1626

Alien Eligiblity for Representation by LSC Programs

AGENCY: Legal Services Corporation.

ACTION: Final rule.

SUMMARY: The Legal Services Corporation (“Corporation”) is revising the appendix to its regulations on restrictions on legal assistance to aliens. This appendix sets forth a listing of documents upon which recipients may rely to verify the eligibility of non-U.S. citizens' applicants for legal assistance from LSC-funded programs.

EFFECTIVE DATE: This rule is effective as of September 26, 2003.

FOR FURTHER INFORMATION CONTACT: Mattie C. Condray, Senior Assistant General Counsel, Legal Services Corporation, 3333 K Street, NW., Washington, DC 20007-3522; (202) 295-1624; mcondray@lsc.gov.

SUPPLEMENTARY INFORMATION: Recipients of Legal Services Corporation (“Corporation”) funds are permitted by law to provide legal assistance only to U.S. citizens and certain legal aliens. Recipients are required to verify the eligibility of non-U.S. citizen applicants for legal assistance by seeing documentary proof of the applicant's status. This appendix sets forth a listing of documents upon which recipients may rely to verify the eligibility of non-U.S. citizens applicants for legal assistance from LSC-funded programs.

List of Subjects for 45 CFR 1626

Aliens, Grant programs—law, Individuals with disabilities, Legal services.

For reasons set forth above, 45 CFR 1626 is amended as follows:

PART 1626—RESTRICTIONS ON LEGAL ASSISTANCE TO ALIENS

1. The authority citation for Part 1626 continues to read as follows:

Authority: Pub. L. 104-208, 110 Stat. 1321; Pub. L. 104-134, 110 Stat. 3008.

2. The Appendix to Part 1626 is revised to read as follows:

Appendix to Part 1626

Alien Eligibility for Representation by LSC Programs
Alien category | Immigration Act (INA) | LSC regs; 45 CFR § 1626 | Examples of acceptable documents
LAWFUL PERMANENT RESIDENT | INA § 101(a)(20); 8 USC § 1101(a)(20) | § 1626.5(a) | I-551 or I-151 or I-181 (Memorandum of Creation of Record of Lawful Permanent Residence), with approval stamp;
|  |  | or passport bearing immigrant visa or stamp indicating admission for lawful permanent residence;
|  |  | or order granting registry, suspension of deportation, cancellation of removal, or adjustment of status from the INS, an immigration judge, the BIA, or a federal court;
|  |  | or I-327 Reentry Permit;
|  |  | or I-94 with stamp indicating admission for lawful permanent residence;
|  |  | or any verification from INS or other authoritative document.
ALIEN WHO IS —married to U.S. citizen, or —parent of U.S. citizen, or— unmarried child under 21 of U.S. citizen and —has filed an application for adjustment of status to permanent residency | INA §§ 208, 210, 244 (replaced by INA § 240A(b) for aliens in proceedings initiated on or after 4/1/97), 245, 245A, 249; 8 USC §§ 1158, 1160, 1254 (replaced by 1229b(b) for aliens in proceedings initiated on or after 4/1/97), 1255, 1255a, 1259 | § 1626.5(b) | Proof of relationship to U.S. citizen* and proof of filing:** I-485 (application for adjustment of status based on family-based visa, registry, or various special adjustment laws) or I-256A or EOIR-40 (application for suspension of deportation) or EOIR-42 (application for cancellation of removal) or I-817 (application for Family Unity) or I-881 (application for NACARA suspension or special rule cancellation and adjustment)
|  |  | or OF-230 (application at consulate for visa)
|  |  | or I-129F (Petition for Alien Fiancé(e) (for spouses and children of USCs applying for K-status)
|  |  | or I-130 (family-based immigrant visa petition)
|  |  | or I-360 (self-petition for widow(er) or abused spouse or child)
|  |  | or I-539 indicating application for V status
|  |  | or I-589 (application for asylum)
|  |  | or I-698 (application to adjust from temporary to permanent residence)
|  |  | or I-730 (refugee/asylee relative petition)
|  |  | or any verification from INS or other authoritative document.
|  |  | *Proof of relationship may include: copy of marriage certificate accompanied by proof of spouse's U.S. citizenship; copy of birth certificate, religious archival document such as baptismal certificate, adoption decree or other documents demonstrating parentage of a U.S. citizen; copy of birth certificate, baptismal certificate, adoption decree, or other documents demonstrating alien is a child under age 21, accompanied by proof parent is a U.S. citizen; or in lieu of the above, a copy of INS Form I-130 (visa petition) or I-360 (self-petition) containing information demonstrating alien is related to such a U.S. citizen, accompanied by proof of filing.
|  |  | **Proof of filing may include a fee receipt or cancelled check showing that the application was filed with the INS or the immigration court; a filing stamp showing that the application was filed; or a copy of the application accompanied by a declaration or attestation signed by the immigrant, or the immigrant's attorney or legal representative for the application, that such form was filed. Proof of filing is also established by: a letter or Form I-797 from INS or the immigration court acknowledging receipt of or approval of one of the above-listed forms;
|  |  | or Form I-94 (arrival/departure record) or I-512 (advance parole) indicating entry to pursue an above-listed application;
|  |  | or I-688B or I-766 (employment authorization document) coded 8 CFR § 274a. 12(c)(9) (applicant for adjustment), (c)(10) (applicant for suspension or cancellation, (c)(16) (applicant for registry), (c)(21) (S-visa principal or dependent), (c)(20) or (22) (legalization applicant), (c)(24) (LIFE Act legalization applicant), (a)(9) (K-status), (a)(13)(Family Unity), (a)(14) (LIFE Act Family Unity), (a)(15) (V-status), (a)(16) or (c)(25) (T-status) or (c)(8) (asylum applicant).
REFUGEE | INA § 207, 8 USC § 1157 | § 1626.5(c) | I-94 or passport stamped “refugee” or “§ 207”
|  |  | or I-688B or I-766 coded 8 CFR § 274a.12(a)(3)(refugee) or § 274a. 12(a)(4)(paroled as refugee)
|  |  | or I-571 refugee travel document
|  |  | or any verification from INS or other authoritative document.
ASYLEE | INA § 208, 8 USC § 1158 | § 1626.5(c) | I-94 or passport stamped “asylee” or “§ 208”
|  |  | or an order granting asylum from INS, immigrantion judge, BIA, or federal court
|  |  | or I-571 refugee travel document
|  |  | or I-688B coded 8 CFR § 274a. 12(a)(5)(asylee)
|  |  | or any verification from INS or other authoritative document.
GRANTED WITHHOLDING OR DEFERRAL OF DEPORTATION OR REMOVAL | INA § 241(b)(3) or former INA § 243(h), 8 USC § 1251(b)(3) or former 8 USC § 1253(H) | § 1626.5(e) | I-94 stamped “§ 243(h)” or “241(b)(3)” or an order granting withholding or deferral of deportation or removal from INS, immigration judge, BIA, or federal court Also acceptable
|  |  | I-688B coded 8 CFR § 274a.12(a)(10)(granted withholding of deportation or removal)
|  |  | or any verification from INS or other authoritative document.
CONDITIONAL ENTRANT | INA § 203(a)(7), 8 USC § 1153(a)(7) | § 1626.5(d) | I-94 or passport stamped “conditional entrant” or any verification from INS or other authoritative document.
H-2A AGRICULTURAL WORKER | INA § 101 (a)(15)(H)(ii); 8 USC § 1101 (a)(15)(ii) | § 1626,11 | I-94 or passport stamped “H-2” or any verification from INS or other authoritative document.
SPECIAL AGRICULTURAL WORKER TEMPORARY RESIDENT | INA § 210 8 USC § 1160 | § 1626.10(d) | I-688, 688A, 688B, or 766 indicating issuance under § 210 (or under 8 CFR § 274a. 12(a)(2), with other evidence indicating eligibility under INA § 210) or any verification from INS or other authoritative document.

[?USGPO Galley End:?]

Victor M. Fortuno,
Vice President for Legal Affairs, General Counsel & Corporate Secretary.

[FR Doc. 03-24327 Filed 9-25-03; 8:45 am]

BILLING CODE 7050-01-P